DEPARTMENT OF ENERGY

Federal Energy Regulatory Commission

Combined Notice of Filings

June 21, 2021.

Take notice that the Commission has received the following Natural Gas Pipeline Rate and Refund Report filings:

Docket Numbers: RP21-898-000.

Applicants: Eastern Shore Natural Gas Company.

Description: § 4(d) Rate Filing: Capital Cost Surcharge #2 to be effective 7/15/2021.

Filed Date: 6/15/21.

Accession Number: 20210615-5081.

Comments Due: 5 p.m. ET 6/28/21.

Docket Numbers: RP20-921-004.

Applicants: Maritimes & Northeast Pipeline, L.L.C.

Description: Compliance filing RP20-921 MNE Settlement Compliance Filing to be effective 6/1/2021.

Filed Date: 6/17/21.

Accession Number: 20210617-5116.

Comments Due: 5 p.m. ET 6/29/21.

Docket Numbers: RP21-899-000.

Applicants: El Paso Natural Gas Company, L.L.C.

Description: Petition for Limited Waiver of Tariff Provision of El Paso Natural Gas, L.L.C.

Filed Date: 6/17/21.

Accession Number: 20210617-5127.

Comments Due: 5 p.m. ET 6/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2021.
Debbie-Anne A. Reese,
Deputy Secretary.

[FR Doc. 2021-13604 Filed 6-24-21; 8:45 am]

BILLING CODE 6717-01-P